DEPARTMENT OF HEALTH AND HUMAN SERVICES

Centers for Disease Control and Prevention

Solicitation of Nominations for Appointment to the Board of Scientific Counselors, National Center for Health Statistics

AGENCY: Centers for Disease Control and Prevention (CDC), Department of Health and Human Services (HHS).

ACTION: Notice.

SUMMARY: In accordance with the Federal Advisory Committee Act, the Centers for Disease Control and Prevention (CDC), within the Department of Health and Human Services (HHS), is seeking nominations for membership on the Board of Scientific Counselors, National Center for Health Statistics (BSC, NCHS). The BSC, NCHS consists of up to 15 experts including the Chair in fields associated with the scientific and technical program objectives of the Center.

DATES: Nominations for membership on the BSC, NCHS will be accepted on a rolling basis. To be considered for the upcoming nomination slate, submissions should be received no later than November 22, 2024. Submissions received after this time will not be considered for the current membership cycle.

ADDRESSES: All nominations should be emailed to NCHS-BSCmail@cdc.gov.

FOR FURTHER INFORMATION CONTACT: Naomi Michaelis, M.P.A., Designated Federal Officer, Board of Scientific Counselors, National Center for Health Statistics, Centers for Disease Control and Prevention, 3311 Toledo Road, Hyattsville, Maryland 20782. Telephone: (301) 332-3467; Email: NMichaelis@cdc.gov.

SUPPLEMENTARY INFORMATION: Nominations are sought for individuals who have the expertise and qualifications necessary to contribute to the accomplishment of the objective of the Board of Scientific Counselors, National Center for Health Statistics (BSC, NCHS) to provide advice and guidance on statistical and epidemiological research, data collection, and activities that support NCHS, such as: determinants of health; extent and nature of illness and disability, including life expectancy; incidence and prevalence of various acute and chronic illnesses/impairments and accidental injuries; infant and maternal morbidity and mortality; nutrition status; environmental, social, and other hazards affecting health status; health resources associated with physician and dental visits, hospitalizations, nursing, extended care facilities, home health agencies, and other health institutions; utilization of health care in a broad array of settings; trends in prices/costs and sources of payments; Federal, State, and local government expenditures for health care services; the relationship between demographic and socioeconomic characteristics and health characteristics; family formation, growth, and dissolution; new or improved methods for obtaining current data on the aforementioned factors; data security and confidentiality and comparability of data; and standardized means to collect information and statistics.

Nominees will be selected based on expertise in fields associated with statistical, demographic, and epidemiological research, such as biostatistics/biometry, survey methodology and polling, sociology, reproductive health, minority health, nutrition, social and behavioral health sciences, and population-based public and environmental health; public health practice, e.g., State and local health data systems; operations research, health policy, and health services research, including health economics and econometrics; provision of health services, e.g., medicine, nursing, rehabilitation, other allied health care, and preventive medicine; health quality measurement and health indicators; health promotion; medical informatics; and data and health information security, storage, confidentiality, and dissemination.

The Board makes recommendations about opportunities for NCHS programs to examine and employ new approaches to monitoring and evaluating key public health, health policy, and public policy changes. This includes automation, data modernization, and technological improvements to enhance data collection, analysis, access, and reporting capabilities of the Center. Members of the BSC, NCHS are responsible for maintaining awareness of emerging frameworks and technologies related to their individual disciplines and for providing updates and input, as appropriate, to the full Board through regular meetings and/or convening of workshops or symposia.

The selection of members is based on candidates' qualifications to contribute to accomplishing BSC, NCHS objectives (https://www.cdc.gov/nchs/about/bsc.htm). Members may be invited to serve for up to four-year terms.

Department of Health and Human Services (HHS) policy stipulates that committee membership be balanced in terms of points of view represented and the committee's function. Appointments shall be made without discrimination on the basis of age, race, ethnicity, gender, sexual orientation, gender identity, HIV status, disability, and cultural, religious, or socioeconomic status. Nominees must be U.S. citizens and cannot be full-time employees of the U.S. Government. Current participation on Federal workgroups or prior experience serving on a Federal advisory committee does not disqualify a candidate; however, HHS policy is to avoid excessive individual service on advisory committees and multiple committee memberships. Board members are Special Government Employees, requiring the filing of financial disclosure reports at the beginning of and annually during their terms. The Centers for Disease Control and Prevention (CDC) reviews potential candidates for BSC, NCHS membership each year and provides a slate of nominees for consideration to the Secretary of HHS for final selection. HHS notifies selected candidates of their appointment near the start of the term in June, or as soon as the HHS selection process is completed. Note that the need for different expertise varies from year to year and a candidate who is not selected in one year may be reconsidered in a subsequent year.

Candidates should submit the following items:

▪ Cover letter that includes a statement of interest for serving on the Board and the names of two professional references. Candidates may submit references from current HHS employees if they wish, but at least one reference must be submitted by a person not employed by an HHS agency (e.g., CDC, Health Resources and Services Administration, National Institutes of Health, Agency for Healthcare Research and Quality).

▪ Current resume/curriculum vitae, including complete contact information (telephone numbers, work and home postal mailing addresses, email address) in Microsoft Word or PDF format.

▪ Short biographical sketch, including the top 3-5 areas of expertise.

Nominations may be submitted by the candidate or by the person/organization recommending the candidate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-20251 Filed 9-6-24; 8:45 am]

BILLING CODE 4163-18-P